DEPARTMENT OF TRANSPORTATION

Office of the Secretary

[Docket No. DOT-OST—2014-0011]

National Freight Advisory Committee: Notice of Public Webinar Meeting

ACTION: Notice of public meeting.

SUMMARY: This notice announces a public meeting of the National Freight Advisory Committee (NFAC). The NFAC will provide information, advice, and recommendations to the U.S. Secretary of Transportation on matters relating to U.S. freight transportation, including implementation of the Moving Ahead for Progress in the 21st Century Act (MAP-21), Public Law 112-141.

DATES: Dates and Location: The meeting will take place online, as a webinar, on Thursday, February 6, 2014, from 1 p.m. to 5 p.m., Eastern Standard Time.

FOR FURTHER INFORMATION CONTACT: Tretha Chromey, Designated Federal Officer at (202) 366-1999 or freight@dot.gov or visit the NFAC Web site at www.dot.gov/nfac.

Additional Information

Background: The NFAC is established under the authority of the U.S. Department of Transportation, in accordance with the provisions of the Federal Advisory Committee Act (5 U.S.C. App. 2). The Secretary of Transportation has determined that establishment of the Committee is in the public interest. The NFAC provides advice and recommendations to the Secretary on matters related to freight transportation in the United States, including (1) implementation of the freight transportation requirements of MAP-21; (2) establishment of the National Freight Network; (3) development of a National Freight Strategic Plan; (4) development of strategies to help States implement State Freight Advisory Committees and State Freight Plans; (5) development of measures of conditions and performance in freight transportation; (6) development of freight transportation investment, data, and planning tools; and (7) legislative recommendations.

On November 19, 2013, the Federal Highway Administration published in the Federal Register the draft initial designation of the highway Primary Freight Network (PFN), which is established by the Secretary of Transportation as required by 23 U.S.C. 167(d), and provides information about designation of Critical Rural Freight Corridors (CRFC), which are designated by the States, and establishment of the National Freight Network (NFN), which combines the two, along with the portions of the Interstate System not designated as part of the highway PFN. The notice also solicits comments on the draft initial designation of the highway PFN and other critical aspects of the NFN. A notice published in the Federal Register on February 6, 2013 (78 FR 8686), introduced the process for designation of the highway PFN, NFN, and CRFCs.

During this meeting, NFAC members will discuss and prepare a joint comment on the Designation of the Primary Freight Network [FHWA-2013-0050].

Agenda: The agenda will include: (1) Welcome and introductions; (2) overview of the meeting format; (3) remarks from the NFAC Chair and Vice Chair; (4) discussion and consideration by full Committee of draft comments; (5) public comment; and (6) adjournment.

To participate in or view the webinar meeting, members of the NFAC and of the public must pre-register online at https://connectdot.connectsolutions.com/NFAC020614/event/registration.html. Members and interested persons may link to the webinar registration portal through www.dot.gov/nafac no later than February 5, 2014. Upon registration, information will be sent to you at the email address you provide to enable you to connect to the webinar. Should problems arise with webinar registration, contact Kirse Kelly at ntchost@dot.gov or 703-235-1324. [This is not a toll-free telephone number.] Note: Members of the public will be able to listen to and view the webinar as observers, and will only be able to participate during the public comment period. Written comments: Persons who wish to submit written comments for consideration by the Committee must email freight@dot.gov or send them to Ms. Tretha Chromey, Designated Federal Officer, National Freight Advisory Committee, 1200 New Jersey Avenue SE., W82-320, Washington, DC 20590 by February 3, 2014, to provide sufficient time for review. All other comments may be received at any time before or after the meeting.

Dated: January 22, 2014.
Tretha Chromey,
Designated Federal Officer.

[FR Doc. 2014-01577 Filed 1-27-14; 8:45 am]

BILLING CODE 4910-9X-P